DEPARTMENT OF DEFENSE

Department of the Air Force

Second Record of Decision for the Presidential Aircraft Recapitalization Program at Joint Base Andrews-Naval Air Facility Washington, Maryland Final Environmental Impact Statement

AGENCY: Department of the Air Force, DoD.

ACTION: Notice of Availability of a Second Record of Decision.

SUMMARY: On January 7, 2019, the United States Air Force (“Air Force”) signed a Second Record of Decision for the Presidential Aircraft Recapitalization Program (“Program”) Final Environmental Impact Statement.

ADDRESSES: Mr. Michael Ackerman, (210) 925-2741, AFCEC/CZN, 2261 Hughes Ave, Ste. 155, JBSA Lackland, TX 78326-9853.

SUPPLEMENTARY INFORMATION: By this decision, the Air Force will construct and operate a permanent Hazardous Cargo Pad and Explosive Ordnance Disposal Proficiency Range at a location known as Southeast Option 1A-3 at Joint Base Andrews, as portrayed in the Final Environmental Impact Statement. Further, the Air Force has decided to amend mitigations described in the Final Environmental Impact Statement and adopted in the 2017 Record of Decision for the Presidential Aircraft Recapitalization Hangar Complex (“Hangar Complex”), to reflect regulatory review and verification of natural resource areas that would be subject to mitigation and permitting during the final design process for the Hangar Complex. In addition, the Air Force has decided to relocate the Military Working Dog Kennel to the Vermont Road site to better meet current facility standards and operational requirements. Last, the Air Force has also clarified the decision in relation to the golf courses at Joint Base Andrews affected by the Program.

As analyzed in the Final Environmental Impact Statement, the existing Hazardous Cargo Pad at Joint Base Andrews would need to be relocated in order to accommodate the Hangar Complex. During the Environmental Impact Analysis Process, the Air Force considered a variety of siting alternatives for these facilities. In the 2017 Record of Decision, the Air Force identified Hazardous Cargo Pad and Explosive Ordnance Disposal Proficiency Range Southeast Option 1 or a variant thereof (e.g. Southeast Option 1A or 1A-3) as its preferred alternative for the permanent siting of these facilities, but did not make a final selection on the permanent siting of these facilities.

To arrive at a decision among the remaining preferred alternatives for the permanent siting of the Hazardous Cargo Pad and Explosive Ordnance Disposal Proficiency Range, the Air Force considered a range of operational, mission capability, land use compatibility and safety factors, as well as potential impacts to adjacent landowner, Soil Safe, Incorporated. Southeast Option 1A-3 was ultimately chosen for implementation because it: (1) Meets the purpose and need for the Program; (2) eliminates off-installation land acquisition; (3) minimizes impacts to adjacent environmental resources compared to other alternatives; and (4) avoids many adverse effects to adjacent landowner, Soil Safe, Incorporated.

In the 2017 Record of Decision, the Air Force identified its decision to relocate the Military Working Dog Kennel to the Vermont Road location subject to specific contingencies. Since publication of the 2017 Record of Decision, funding for the relocation of the Military Working Dog Kennel to a new facility has been secured by Joint Base Andrews. This funding will allow relocating the Kennel to this new facility irrespective of the contingencies. The Vermont Road location better meets the mission and operational requirements of the Kennel, compared to the existing facility, in terms of facility size, layout and amenities. Consequently, the Air Force is electing to use this location as the site for the new Kennel facility.

Air Force decisions documented in the Program Records of Decision were based on matters discussed in the Final Environmental Impact Statement, inputs from the public and regulatory agencies, and other relevant factors. The Final Environmental Impact Statement was made available to the public on October 17, 2017 through a Notice of Availability in the Federal Register (Volume 82, Number 199, Page 48227) with a wait period that ended on November 15, 2017. A Notice of Availability for the December 2017 Record of Decision was published in the Federal Register on February 16, 2018 (Volume 83, Number 33, Page 7017).

Authority: This Notice of Availability is published pursuant to the regulations (40 CFR part 1506.6 and 1502.14(e)) implementing the provisions of NEPA (42 U.S.C. 4321, et seq.) and the Air Force's Environmental Impact Analysis Process (32 CFR parts 989.21(b) and 989.24(b)(7)).

Henry Williams,
Acting Air Force Federal Register Liaison Officer.

[FR Doc. 2019-01224 Filed 2-5-19; 8:45 am]

BILLING CODE 5001-10-P